DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: Generic Clearance for 2010 Census Communications Campaign Testing Activities.

Form Number(s): None.

OMB Control Number: None.

Type of Request: New collection.

Burden Hours: 13,000.

Number of Respondents: 8,000.

Average Hours per Response: 1 hour and 38 minutes.

Needs and Uses: Every ten years, the U.S. Census Bureau is congressionally mandated to count everyone (citizens and non-citizens) residing in the United States. An accurate count is critical for many reasons including but not limited to:

• Congressional reapportionment;

• Redistricting congressional boundaries;

• Community planning; and

• Distribution of public funds and program development.

To facilitate the data collection effort for the 2010 Census, the Census Bureau is developing an Integrated Communications Campaign (ICC). The role of the ICC is to increase public awareness and motivate people to respond to the census promptly, saving millions of taxpayer dollars. The specific objectives of the ICC are:

• Increase mail response;

• Improve cooperation with enumerators; and

• Improve overall accuracy and reduce differential undercount.

From 1970—the first year questionnaires were mailed to households—to 1990, the mail response rate declined from 78 percent to 65 percent. To help halt the declining mail response rate, the Census Bureau ran a paid advertising campaign to support data collection activities for the 2000 Census. The resulting mail response rate in 2000 was 67 percent—two percentage points above 1990. This campaign was considered a very successful initiative and one of several reasons cited with helping to reverse declining mail response rates.

In order to support the aforementioned objectives, the ICC will be based on behavioral learning during the 2000 Census as well as information that will come from new research. All messaging and communications that will be developed as part of the 2010 Census integrated communications will be supported by primary research among a wide range of target audiences. The research will serve to support campaign direction and decisions made at each stage of message and communications development, such research commenced in late 2007 and in 2008 (covered as part of Generic Clearance OMB Control No. 0607-0725). That research covered the development of a unifying idea (Only You Can Make the Census Ours) and creative expression (It's in Our Hands), which will be reflected across all communications under the campaign.

This research provided valuable guidance for the next stages of development. Going forward, additional research must be conducted in order to support these next stages. At this time, the Census Bureau is seeking a generic clearance for conducting research to gain respondent feedback to specific messaging, a variety of creative executions, and to track the campaign progress once launched. This will enable the Census Bureau to continue providing support for research activities as part of the Census 2010 ICC.

The proposed quantitative and qualitative methods are: One-on-one interviews; focus groups; online quantitative surveys; telephone quantitative surveys; and in-person quantitative surveys.

Since the types of studies included under the umbrella of the clearance are so varied, it is impossible to specify at this point what kinds of activities would be involved in any particular activity. But at a minimum, Census expect to use in-person group interviews, focus groups, usability tests, and tracking surveys.

OMB will be provided a copy of questionnaires, moderator guides, creative materials, and debriefing materials in advance of any testing activity. Depending on the stage of creative development, this may be rough mock-ups of printed materials or story boards. A brief description of the planned field activity will also be provided. The Census Bureau will send OMB an annual report at the end of each year summarizing the number of hours used, as well as the nature and results of the activities completed under this clearance.

The information collected in this program will be used by staff from the Census Bureau and its contractors to evaluate and improve the quality of the communications, advertising, and messages that are produced as part of the campaign. None of the data collected under this clearance will be published for its own sake.

Data from the research will be included in research reports prepared for sponsors inside and outside of the Census Bureau. The results may also be prepared for presentations before Census advisory committees, at professional meetings or in publications in professional journals.

Affected Public: Individuals or households.

Frequency: On occasion.

Respondent's Obligation: Voluntary.

Legal Authority: Title 13 U.S.C. Sections 141 and 193.

OMB Desk Officer: Brian Harris-Kojetin, (202) 395-7314.

Copies of the above information collection proposal can be obtained by calling or writing Diana Hynek, Departmental Paperwork Clearance Officer, (202) 482-0266, Department of Commerce, Room 6625, 14th and Constitution Avenue, NW., Washington, DC 20230 (or via the Internet at dhynek@doc.gov).

Written comments and recommendations for the proposed information collection should be sent within 30 days of publication of this notice to Brian Harris-Kojetin, OMB Desk Officer either by fax (202-395-7245) or e-mail (bharrisk@omb.eop.gov).

Dated: October 15, 2008.
Gwellnar Banks,
Management Analyst, Office of the Chief Information Officer.

[FR Doc. E8-24915 Filed 10-17-08; 8:45 am]

BILLING CODE 3510-07-P